DEPARTMENT OF DEFENSE

Office of the Secretary

Charter Amendment of Department of Defense Federal Advisory Committees

AGENCY: Department of Defense.

ACTION: Amendment of Federal Advisory Committee.

SUMMARY: The Department of Defense (DoD) is publishing this notice to announce that it is amending the charter for the Advisory Committee on Arlington National Cemetery.

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d). The amended charter and contact information for the Committee's Designated Federal Officer (DFO) can be obtained at http://www.facadatabase.gov/.

The DoD is amending the charter for the Advisory Committee on Arlington National Cemetery (“the Committee”) previously published in the Federal Register on July 26, 2016 (81 FR 48763). The Committee's charter is being amended to update the number of permanent subcommittees to two and establish the function of the new Remember and Explore subcommittee. All other aspects of the Committee's charter, as previously published, will apply to the Committee.

Dated: January 11, 2017.
Aaron Siegel,
Alternate OSD Federal Register Liaison Officer, Department of Defense.

[FR Doc. 2017-00862 Filed 1-13-17; 8:45 am]

BILLING CODE 5001-06-P